DEPARTMENT OF TRANSPORTATION

49 CFR Part 1

[Docket No. OST-1999-6189]

RIN 9991-AA27

Organization and Delegation of Powers and Duties; Secretarial Succession

AGENCY: Office of the Secretary, DOT.

ACTION: Final rule.

SUMMARY: The purpose of this amendment is to alter the order of Secretarial succession for the Department in order to be consistent with the Vacancies Act.

EFFECTIVE DATE: July 19, 2002.

FOR FURTHER INFORMATION CONTACT: Laura Aguilar, Office of the Assistant General Counsel for Environmental, Civil Rights, and General Law, Department of Transportation, 400 Seventh Street SW., Room 10102, Washington, DC 20590; Telephone: (202) 366-0365.

SUPPLEMENTARY INFORMATION: In 49 CFR 1.26, the order of succession to act as Secretary of Transportation is set forth as follows: The Deputy Secretary, General Counsel, Assistant Secretary for Transportation Policy, Assistant Secretary for Aviation and International Affairs, Assistant Secretary for Governmental Affairs, Assistant Secretary for Budget and Programs, Associate Deputy Secretary, Federal Aviation Administrator, and Assistant Secretary for Administration, in that order.

The Federal Vacancies Reform Act of 1998 (Vacancies Act) specifies who may serve in an acting capacity for a vacant position that is subject to a nomination by the President by and with the consent of the Senate (a “PAS” position). The Vacancies Act is the exclusive means for temporarily authorizing an acting official to perform the functions and duties of a PAS position unless otherwise authorized by statute. The Administration interprets the Vacancies Act to mean that if there is no statutory provision that enables the head of an agency to establish an order of succession, only the President of the United States may do so.

Section 102 of title 49, United States Code, authorizes the Secretary to prescribe the order of succession for the Assistant Secretaries and the General Counsel. The Department's order of Secretarial succession is not consistent with the Vacancies Act since it also includes the Associate Deputy Secretary and the Federal Aviation Administrator. Therefore, we are amending the Secretarial Order of Succession to make it consistent with 49 U.S.C. 102 and the Vacancies Act.

Section 102 of title 49, United States Code, authorizes the Secretary to prescribe the order of succession for the Assistant Secretaries and the General Counsel. Under the Vacancies Act, only the President is authorized to designate officers in the line of Secretarial succession that are not specified in the enabling statute. In other words, only the President may designate officers beyond the General Counsel and the Assistant Secretaries. In a Memorandum for the Secretary of Transportation entitled “Designation of Officers of the Department of Transportation,” dated March 19, 2002, the President supplemented the Secretarial succession to include: the Associate Deputy Secretary of Transportation; the Under Secretary of Transportation for Security; the Federal Aviation Administrator; the Federal Aviation Administration Regional Administrator, Southwest Region; and the Federal Aviation Administration Regional Administrator, Great Lakes Region, in that order. This final rule codifies the President's Memorandum.

Since this amendment relates to Departmental management, procedures, and practice, notice and comment on it are unnecessary under 5 U.S.C. 553(b)(3)(A), and it may be made effective in less than 30 days after publication in the Federal Register under 5 U.S.C. 553(d)(2) as a change in internal policy.

List of Subjects in 49 CFR Part 1

Authority delegations (Government agencies), Organization and functions (Government agencies).

Issued this 10th day of July, 2002, at Washington, DC.
Norman Y. Mineta,
Secretary of Transportation.

In consideration of the foregoing, Part 1 of Title 49, Code of Federal Regulations, is amended as follows:

PART 1—[AMENDED]

1. The authority citation for part 1 is revised to read as follows:

Authority: 49 U.S.C. 322; 46 U.S.C. 2104(a); 28 U.S.C. 2672; 31 U.S.C. 3711(a)(2); Pub. L. 101-552, 104 Stat. 2736; Pub L. 106-159, 113 Stat. 1748; Pub. L. 107-71, 115 Stat. 597.

2. In § 1.26, paragraphs (a)(3) through (a)(12) are revised to read as follows:

§ 1.26 Secretarial succession.

(a) * * *

(3) Assistant Secretary for Budget and Programs.

(4) Assistant Secretary for Governmental Affairs.

(5) Assistant Secretary for Transportation Policy.

(6) Assistant Secretary for Aviation and International Affairs.

(7) Assistant Secretary for Administration.

(8) Associate Deputy Secretary.

(9) Under Secretary of Transportation for Security.

(10) Federal Aviation Administrator.

(11) Federal Aviation Administration Regional Administrator, Southwest Region.

(12) Federal Aviation Administration Regional Administrator, Great Lakes Region.

* * * * *

[FR Doc. 02-18053 Filed 7-18-02; 8:45 am]

BILLING CODE 4910-62-P